DEPARTMENT OF EDUCATION

Office of Special Education and Rehabilitative Services

AGENCY: Department of Education.

ACTION: Notice inviting applications for new awards for fiscal year (FY) 2003.

SUMMARY: This notice announces closing dates, priorities, and other information regarding the transmittal of grant applications for FY 2003 competitions under three programs authorized under part D, subpart 2 of the Individuals with Disabilities Education Act, as amended. The three programs are: (1) Special Education—Technical Assistance and Dissemination to Improve Services and Results for Children with Disabilities (4 priorities); (2) Special Education—Technology and Media Services for Individuals with Disabilities (1 priority) and (3) Special Education—Training and Information for Parents of Children with Disabilities (1 priority).

Please note that significant dates for the availability and submission of applications, as well as important fiscal information, are listed in a table at the end of this notice.

Waiver of Rulemaking

It is generally our practice to offer interested parties the opportunity to comment on proposed priorities. However, section 661(e)(2) of IDEA makes the public comment requirements in the Administrative Procedure Act (5 U.S.C. 553) inapplicable to the priorities in this notice.

General Requirements

(a) The projects funded under this notice must make positive efforts to employ and advance in employment qualified individuals with disabilities (see section 606 of IDEA).

(b) Applicants and grant recipients funded under this notice must involve individuals with disabilities or parents of individuals with disabilities in planning, implementing, and evaluating the projects (see section 661(f)(1)(A) of IDEA).

(c) The projects funded under these priorities must budget for a two-day Project Directors' meeting in Washington, DC during each year of the project.

(d) In a single application, an applicant must address only one absolute priority in this notice.

(e) If a project maintains a Web site, it must include relevant information and documents in an accessible form.

Page Limit: If you are an applicant, Part III of each application, the application narrative, is where you address the selection criteria that are used by reviewers in evaluating the application. You must limit Part III to the equivalent of no more than the number of pages listed in the table at the end of this notice, using the following standards:

• A “page” is 8.5″ × 11″ (on one side only) with one-inch margins (top, bottom, and sides).

• Double-space (no more than three lines per vertical inch) all text in the application narrative, including titles, headings, footnotes, quotations, and captions, as well as all text in charts, tables, figures, and graphs.

• Use a font that is either 12-point or larger or no smaller than 10 pitch (characters per inch).

The page limit does not apply to Part I—the cover sheet; Part II—the budget section, including the narrative budget justification; Part IV, the assurances and certifications; or the one-page abstract, the resumes, the bibliography or references, or the letters of support. However, you must include all of the application narrative in Part III.

We will reject without consideration or evaluation any application if —

• You apply these standards and exceed the page limit; or

• You apply other standards and exceed the equivalent of the page limit.

Application Procedures

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Project for Electronic Submission of Applications

In Fiscal Year 2003, the U.S. Department of Education is continuing to expand its pilot project of electronic submission of applications to include additional formula grant programs and additional discretionary grant competitions. The three programs in this announcement: Technical Assistance and Dissemination to Improve Services and Results for Children with Disabilities—CFDA 84.326, Technology and Media Services for Individuals with Disabilities—CFDA 84.327, and Training and Information for Parents of Children with Disabilities—CFDA 84.328 are included in the pilot project. If you are an applicant for a grant under any of the three programs in this notice, you may submit your application to us in either electronic or paper format.

The pilot project involves the use of the Electronic Grant Application System (e-Appliyation). Users of e-Application will be entering data on-line while completing their applications. You may not e-mail a soft copy of a grant application to us. If you participate in this voluntary pilot project by submitting an application electronically, the data you enter on-line will be saved into a database. We request your participation in e-Application. We shall continue to evaluate its success and solicit suggestions for improvement.

If you participate in e-Application, please note the following:

• Your participation is voluntary.

• You will not receive any additional point value because you submit a grant application in electronic format, nor will we penalize you if you submit an application in paper format. When you enter the e-Application system, you will find information about its hours of operation.

• You may submit all documents electronically, including the Application for Federal Education Assistance (ED 424), Budget Information—Non-Construction Programs (ED 524), and all necessary assurances and certifications.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The institution's Authorizing Representative must sign this form.

3. Place the PR/Award number in the upper right hand corner of the hard copy signature page of the ED 424.

4. Fax the signed ED 424 to the Application Control Center at (202) 260-1349.

• We may request that you give us original signatures on all other forms at a later date.

• Closing Date Extension in Case of System Unavailability: If you elect to participate in the e-Application pilot for the Technical Assistance and Dissemination to Improve Services and Results for Children with Disabilities Program, the Technology and Media Services for Individuals with Disabilities Program, or the Training and Information for Parents of Children with Disabilities Program and you are prevented from submitting your application on the closing date because the e-Application system is unavailable, we will grant you an extension of one business day in order to transmit your application electronically, by mail, or by hand delivery. For us to grant this extension—

1. You must be a registered user of e-Application, and have initiated an e-Application for this competition; and

2. (a) The e-Application system must be unavailable for 60 minutes or more between the hours of 8:30 and 3:30 p.m., Washington, DC time, on the deadline date; or

(b) The e-Application system must be unavailable for any period of time during the last hour of operation (that is, for any period of time between 3:30 and 4:30 p.m., Washington, DC time) on the deadline date.

The Department must acknowledge and confirm these periods of unavailability before granting you an extension. To request this extension you must contact either (1) the person listed elsewhere in this notice under FOR FURTHER INFORMATION CONTACT or (2) the e-GRANTS help desk at 1-888-336-8930.

You may access the electronic grant application for the Technical Assistance and Dissemination to Improve Services and Results for Children with Disabilities Program, the Technology and Media Services for Individuals with Disabilities Program, or the Training and Information for Parents of Children with Disabilities Program at: http://e-grants.ed.gov.

We have included additional information about the e-Application pilot project (see Parity Guidelines between Paper and Electronic Applications) in the application packages.

Special Education—Technical Assistance and Dissemination to Improve Services and Results for Children with Disabilities [CFDA Number 84.326]

Purpose of Program: The purpose of this program is to provide technical assistance and information—through such mechanisms as institutes, regional resource centers, clearinghouses, and programs that support States and local entities in building capacity—to (1) improve early intervention, educational, and transitional services and results for children with disabilities and their families; and (2) address systemic-change goals and priorities.

Eligible Applicants: State educational agencies, local educational agencies, institutions of higher education, other public agencies, nonprofit private organizations, for-profit organizations, outlying areas, freely associated States, and Indian tribes or tribal organizations.

Applicable Regulations: (a) The Education Department General Administrative Regulations (EDGAR) in 34 CFR parts 74, 75, 77, 79, 80, 81, 82, 85, 86, 97, 98, and 99; and (b) The selection criteria, chosen from the general selection criteria in 34 CFR 75.210. The specific selection criteria for these competitions are included in the application package for these competitions.

Note: The regulations in 34 CFR part 79 apply to all applicants except federally recognized Indian tribes.

Note: The regulations in 34 CFR part 86 apply to institutions of higher education only.

Priorities

Under 34 CFR 75.105(c)(3) we consider only applications that meet one of the following priorities:

Absolute Priority 1—Absolute Priority 1—The IDEA Partnership Project (84.326A)

Background

In 1998 the Department of Education, Office of Special Education Programs (OSEP), funded four projects to support partnerships among national associations and membership organizations so that they could contribute to the successful implementation of the Individuals with Disabilities Education Act (IDEA) Amendments of 1997 by making available accurate information on the statute, as well as research-based practices for implementing the statute, to their grass-roots constituencies. Partnerships were funded to meet the needs of four audiences: (1) Families and advocates, (2) policymakers, (3) service providers, and (4) local-level administrators.

Over the last four and a half years, these four projects have made considerable progress building trust between the participating organizations and creating an infrastructure by which member organizations within individual projects could collaborate, share information, and develop activities and products to meet the needs of their constituencies. In addition, through the Partnership Projects' Coordinating Committee, cross-partnership collaborations were initiated that allowed the various constituency groups to share their perspectives and to gain insights on the perspectives of others. This cross-stakeholder communication is essential to successfully address the complex challenges associated with the implementation of both IDEA and No Child Left Behind (NCLB).

Priority

The purpose of this priority is to continue, and further focus, the work of the four Partnership Projects by supporting one partnership among national associations and membership organizations representing all four audiences: (1) Families, (2) policymakers, (3) service providers, and (4) local-level administrators. This partnership project must build upon the relationships and infrastructures created by the four previous partnerships, but must focus its work primarily on activities that are relevant across all four audiences. In addition, activities conducted by this project must be designed to move national-level collaborations down to State and local levels.

Like the previous four projects, this single partnership will be funded as a cooperative agreement, and must inform and provide support to its members in understanding IDEA, including Part C, and NCLB. The project must focus on the effect these two statutes have on the respective roles of its members in improving results for children with disabilities. The project must also provide opportunities for members to engage in meaningful dialogue and problem solving designed to improve the integration of regular and special education.

Applicants may not make financial commitments to any associations or membership organizations in designing this application. These commitments will be negotiated during the first month of the award with final approval by OSEP. The project must:

(a) Form a single partnership among national associations and membership organizations from both regular and special education to meet the collective needs of four audiences:

(1) Policymakers (e.g., associations of chief State school officers, State boards of education, local school boards, State directors of special education, mental health, and children with special health care needs programs, deans of education and special education, department chairs at institutions of higher education, superintendents, governors, State legislators);

(2) Service providers, (e.g., associations of regular and special education teachers, community-based providers, vocational educators, related service providers, paraprofessionals);

(3) Local-level administrators (e.g., associations of elementary, middle, and secondary school principals; regular and special education administrators; and administrators of private schools); and

(4) Families (e.g., associations of parents and family members of students in general, special education students, and infants with disabilities, and disability organizations representing individuals with disabilities).

(b) Through the project director and other relevant staff of the partnership, collaborate with appropriate OSEP and other federally funded researchers and technical assistance providers, including the parent training and information centers. OSEP supports a number of research programs and technical assistance efforts that produce findings, information, instructional approaches, and products that could bear upon the successful implementation of IDEA. The project must also share information with the OSEP-funded Dissemination Center.

(c) Include information in its application on an assessment it has conducted to identify the needs of partners regarding the implementation of IDEA, including Part C.

(d) Establish an advisory panel that includes representation from each of its member organizations.

(e) Report results of the needs assessment described in its application to the advisory panel during the first three months of the award.

(f) Based on the results of the needs assessment, with input from the advisory panel, develop joint annual plans for training, technical assistance, dissemination, and outreach to reach the partners' grass roots constituencies in an efficient and timely manner. The plans, which must be submitted to OSEP for approval, must address:

(l) How partners intend to reach members at both State and local levels;

(2) How partners will implement research-based practices to effectively implement IDEA, including Part C, and NCLB;

(3) How trainers, who are members of partner organizations, will be compensated for their training time;

(4) How partners will use project funds to supplement their ongoing efforts to improve results for children with disabilities; and

(5) How the project will leverage other resources to support planned activities.

(g) Convene the advisory panel, at a minimum, on a semi-annual basis to assess the implementation of the plan.

(h) With input from the advisory panel, develop strategies to address the fragmentation and facilitate the integration of regular and special education. Examples of such strategies could include, but are not limited to, technical assistance activities designed to help States and districts develop seamless accountability systems.

(i) Create opportunities for the project's member organizations to engage in meaningful dialogue and problem solving designed to identify supports and impediments to improved results for children with disabilities. The project must develop strategies to eliminate the impediments.

(j) Prior to developing any new product, whether paper or electronic, submit for approval a proposal describing the content and purpose of the product to OSEP's Dissemination Center for which OSEP plans to fund this year. However, product development is not a primary function of this project.

(k) When OSEP has funded a technical assistance center in the content area of the proposed product, but no product currently exists that will meet the needs of the project's partners, work with that center to ensure that the content of the product is of the highest quality.

(l) Before submitting a new product to OSEP's Dissemination Center for review, have that product thoroughly reviewed by individuals representing each of the four constituency groups represented in the partnership.

(m) Review the new product for technical accuracy and clarity by vetting through an approach determined in consultation with OSEP.

(n) Establish:

(1) A toll free telephone number;

(2) A Web site with links to other information and technical assistance providers;

(3) A database of products and activities; and

(4) Regular information updates to keep partner organizations abreast of new developments in the law.

(o) Employ an information specialist to answer questions and mail materials upon request.

(p) Make all information products accessible electronically and available in alternative formats.

(q) Conduct an evaluation of project activities that is based on clear, measurable performance objectives that include measures of collaboration and, if possible, are clearly linked to improving results.

(r) Conduct OSEP-specified technical assistance to States. This effort may include participation in: (1) Collaborative Web-based technical assistance activities, (2) coordination of and participation in State-to-State communities of practice, or (3) direct technical assistance to OSEP-specified States through partnerships between OSEP and selected States. Staff time and project resources dedicated to provide technical assistance to OSEP-specified States will be negotiated with OSEP as part of the cooperative agreement within 30 days of the project award (OSEP anticipates that technical assistance to OSEP-specified States could average approximately $40,000 per year. Budgets should be developed with this in mind).

Fourth and Fifth Years of Project

In deciding whether to continue this project for the fourth and fifth years, the Secretary will consider the requirements of 34 CFR 75.253(a) for continuation awards.

The Secretary will also consider the following:

(a) The recommendation of a review team consisting of experts selected by the Secretary. The team will conduct its review in Washington, DC during the last half of the project's second year. A project must budget for the travel associated with this one-day intensive review;

(b) The timeliness and effectiveness with which all requirements of the negotiated cooperative agreement have been or are being met by the project;

(c) The degree to which the project is making a positive contribution—and its strategies are demonstrating the potential for disseminating significant knowledge to State and local constituencies—to improve collaboration and the implementation of IDEA; and

(d) Evidence of the degree to which the project's activities have contributed to changed practice and improved student outcomes.

Competitive Preference

Within this absolute priority, we will give the following competitive preference points under 34 CFR 75.105(c)(2)(i) to applicants that are otherwise eligible for funding under this priority:

Ten points will be awarded to any application that is submitted from a national association or national membership organization.

Therefore, for purposes of this competitive preference applicants can be awarded a total of 10 points in addition to those awarded under the published selection criteria for this priority. That is, an applicant meeting this competitive preference could receive a maximum possible score of 110 points.

Absolute Priority 2—National Center on Dispute Resolution (84.326D)

Background

Alternative dispute resolution processes such as mediation represent a less costly means of resolving complaints than due process hearings, can help minimize adverse effects on a child's progress in school, and are more apt to foster positive relationships between families and educators than would litigation. In 1998 the Office of Special Education Programs (OSEP) funded a technical assistance center on alternative dispute resolution to give States assistance on mediation and other effective dispute resolution procedures that support the Individuals with Disabilities Education Act (IDEA). This priority follows up on the investment in this area to continue the work of the past five years. For further information on the past work in this area go to http://www.directionservice.org/cadre.

Priority

This priority will support a cooperative agreement to continue a national technical assistance center to provide technical assistance on all dispute resolution and complaint management procedures.

The Center's activities must include, but are not limited, to the following:

(a) Providing technical assistance on dispute resolution and complaint management procedures to all States, outlying areas, Freely Associated States, the Bureau of Indian Affairs, and localities, as appropriate, as they implement early intervention services under Part C and educational and related services under Part B of the IDEA including, at a minimum, (1) Conducting annual needs assessments, (2) Developing technical assistance agreements for each entity, and (3) Providing focused technical assistance to States as requested by OSEP.

(b) Conducting an annual survey of States to determine the current status of due process hearings and use of mediation and alternative dispute resolution. The project must:

(i) Maintain a database for collecting and analyzing information from States on the use and outcomes of due process hearings, mediation, mediator training, and alternative dispute resolution procedures.

(ii) Analyze the data and develop reports on trends and patterns related to the use of alternative dispute resolution and other topics as requested by OSEP.

(c) Providing technical assistance to States based on needs identified in the annual needs assessments.

(d) Establishing a mechanism for assessing and synthesizing the research base on alternative dispute resolution. A team of researchers must assist the Center in the analysis and synthesis of the current and emerging research on alternative dispute resolution.

(e) Developing informational exchanges about dispute resolution procedures between the Center and other technical assistance and information dissemination systems.

(f) Coordinating with the Parent Technical Assistance Projects to provide technical assistance to all OSEP-funded parent training and information centers and community parent resource centers on dispute resolution procedures. Evidence of coordination and proposed outcomes of the coordination must be reported to the Federal project officer.

(g) Coordinating with the National Dissemination Center, which OSEP expects to fund this year, to ensure timely and accurate dissemination of dispute resolution information. Evidence of coordination and proposed outcomes of the coordination must be reported to the Federal project officer.

(h) Collaborating and communicating with other OSEP-funded projects such as the Regional Resource Centers, the IDEA Partnership Project, Project Forum, the Access Center, the National Early Childhood Technical Assistance Center and other projects as appropriate. Evidence of collaboration and proposed outcomes of the collaboration must be reported to the Federal project officer.

(i) Maintaining a Web site with relevant information available in both English and Spanish and accessible to individuals with disabilities.

(j) Conducting biennial symposia that identify the unique features of alternative dispute resolution procedures, the strengths of the procedures, potential application of the procedures, and related issues as requested by OSEP.

(k) Preparing and disseminating reports and documents on alternative dispute resolution and related topics as requested by OSEP.

(l) Developing partnerships with relevant programs and organizations to assist with long-term implementation of alternative dispute resolution procedures. At a minimum, partners shall include State Improvement grantees, General Supervision Enhancement grantees, and the National Center for Special Education Accountability Monitoring.

The Center must also:

(a) Prior to developing any new product, whether paper or electronic, submit for approval a proposal describing the content and purpose of the product to the document review board of the National Dissemination Center.

(b) Provide OSEP-specified technical assistance to States. This effort may include the following: (1) Collaborative Web-based technical assistance activities, (2) coordination of and participation in State-to-State communities of practice, and (3) direct technical assistance to OSEP-specified States through partnerships between OSEP and selected States. The Center must plan for assistance to three OSEP identified States per year.

Note: Staff time and project resources dedicated to provide technical assistance to OSEP-specified States will be negotiated with OSEP as part of the cooperative agreement within 30 days of the project award (OSEP anticipates that technical assistance to OSEP-specified States could average approximately $40,000 per year. Budgets should be developed with this in mind).

(c) Establish, maintain, and meet at least annually with an advisory group of persons with complementary expertise on alternative dispute resolution procedures to advise the Center on its technical assistance activities.

(d) Fund as project assistants three doctoral students per year who have concentrations in relevant topics such as special education or conflict resolution.

(e) Evaluate annually the impact of the Center's technical assistance system and its components relative to (1) meeting the assessed needs of States and jurisdictions, (2) meeting the needs of parents, and (3) linkages with other technical assistance and information dissemination systems. The Center must report its evaluation findings annually to the Federal project officer.

(f) Maintain communication with the Federal project officer through monthly phone conversations and e-mail communication as needed. The Center must submit annual performance reports and provide additional written materials as needed for the Federal project officer to monitor the Center's work.

(g) In addition to the 2-day Project Directors' meeting listed in the General Requirements section of this notice, budget for an additional annual 2-day project meeting to attend the Research Project Directors' meeting; two 2-day annual planning meetings; and at least eight 2-day trips annually as requested by OSEP such as Department briefings, Department-sponsored conferences, and other events.

Fourth and Fifth Years of Project

In deciding whether to continue this project for the fourth and fifth years, the Secretary will consider the requirements of 34 CFR 75.253(a), and in addition—

(a) The recommendation of a review team consisting of experts selected by the Secretary which review will be conducted during the last half of the project's second year in Washington, DC. Projects must budget for the travel associated with this one-day intensive review;

(b) The timeliness and effectiveness with which all requirements of the negotiated cooperative agreement have been or are being met by the Center; and

(c) Evidence of the degree to which the Center's activities have contributed to a changed practice and improved student outcomes.

Absolute Priority 3—The National Coordination and Dissemination Center To Improve Strategies for the Recruitment and Retention of Qualified Personnel for Children With Disabilities (84.326P)

Background

The National Commission on Teaching for America's Future (NCTAF) and the No Child Left Behind Act (NCLB) emphasize the importance of well-qualified teachers to ensuring student achievement. NCLB, in fact, defines what is required for a teacher to be “highly qualified” and establishes deadlines for the employment of highly qualified teachers.

State reported data indicate persistent shortages of special education teachers including large numbers of vacant positions or positions filled by teachers who were not fully certified.

The characteristics of children with disabilities have also changed, adding complexity to the task of providing appropriate services. There are more children who have entered life with marked disabilities, who are expected to continue to thrive, and who require interdisciplinary approaches that provide essential support. Additionally, the cultural and linguistic characteristics of the student population have changed significantly.

In 1998, the Office of Special Education and Rehabilitation Services (OSERS) funded the National Clearinghouse on Careers and Professions Related to Early Intervention and Education for Children with Disabilities (Professions Clearinghouse). At one time, clearinghouses took the passive role of providing information to those who requested it, but as national needs changed, a more proactive approach was necessary. The Professions Clearinghouse took the first steps towards this approach by providing technical assistance to several States to help them improve their recruitment and retention plans, and targeting recruitment campaigns toward new populations of potential teachers and related services providers. These technical assistance and support activities need to be extended and additional creative strategies must be designed and implemented so that more highly qualified personnel are available to meet the needs of children with disabilities and their families.

Priority

The purpose of this priority is to fund a cooperative agreement to support a national coordination and dissemination center to enhance the Nation's capacity to recruit, prepare, and retain a highly qualified, diverse work force of early intervention personnel, educators, and related service personnel to improve services and outcomes for infants, toddlers, and children with disabilities. To accomplish this objective, the Center must:

(a) Conduct nationwide outreach activities to encourage individuals, including individuals with disabilities and individuals from diverse cultural and economic backgrounds, to pursue careers in early intervention, special education, and related services, including paraeducators and related services assistants. The Center must develop, implement and maintain comprehensive and coordinated communication campaigns that:

(1) Utilize a wide range of media outlets; and

(2) Are customized to attract individuals from culturally and economically diverse backgrounds, individuals with disabilities, and individuals across a broad age range including mid-career changers.

(b) Assist individuals interested in pursuing a career in early intervention, special education, or related services by helping them to identify positions in high demand and providing information about specific training opportunities appropriate to their needs. The Center must:

(1) Develop and regularly update information on ongoing and emerging areas of personnel need identified by States, LEAs, early intervention service providers, and other entities;

(2) Develop and maintain a comprehensive, up-to-date, easily accessible, database of personnel preparation opportunities available across the country. This database must reflect the full range of preparation opportunities, including both traditional and alternative routes and both professional and paraprofessional programs;

(3) Develop and regularly update information on available trainee financial support including ED-supported financial assistance, Federal loans, and other public and private sources of trainee support; and

(4) Conduct broad-based outreach efforts and establish effective linkages with other information providers to ensure widespread use of the Center services by interested individuals, including individuals with disabilities as well as culturally and linguistically diverse individuals.

(c) Provide assistance to State educational agencies (SEAs), local educational agencies (LEAs), institutions of higher education (IHEs), community colleges (CCs), agencies that administer IDEA Part C programs, and other appropriate entities by disseminating information that will help them to improve the quality of professionals and paraprofessionals who serve infants, toddlers, and children with disabilities, including children with limited English proficiency and children from culturally diverse backgrounds. The Center must:

(1) Synthesize, and disseminate information on research-based approaches to professional preparation and career development for special education, related services, and early intervention personnel with a particular focus on evidence-based mentoring and induction strategies to promote personnel retention. In particular, in collaboration with the Urban Special Education Leadership Collaborative, the Center must coordinate activities with urban districts;

(2) Disseminate information on national and State professional certification and licensure standards, with a particular focus on how standards are changing to reflect research-based knowledge and practice and new legal requirements such as those in the Elementary and Secondary Education Act;

(3) Disseminate information on effective strategies for promoting the credentialing of currently practicing personnel who are less than fully qualified for their positions;

(4) In collaboration with appropriate entities, develop and disseminate guidelines for instituting certification standards for paraeducators where such standards do not yet exist; and,

(5) Develop and disseminate periodic highlights or reviews of pressing issues, trends, and emerging research regarding preparation and career development for early intervention, special education, and related services personnel.

(d) Conduct timely updates of all Center information and databases to ensure that information disseminated is accurate and current.

(e) Establish diverse advisory groups to provide recommendations to the Center relative to the activities or products described above and to ensure that all constituency needs are met.

(f) Employ effective technology and multiple strategies of communication for receiving and disseminating current information and research-based practices including, but not limited to, the establishment and maintenance of an easily accessible, user-friendly Web site that ensures seamless links to and from other relevant data and information sources. The Web site must address early intervention and special education professions, including paraeducators; related services careers, including related services assistants; preparation programs across the country, including alternate route programs; research related to the special education workforce; and surveys and links to research relevant to developing and sustaining a diverse, qualified workforce including individuals with disabilities as well as individuals from culturally and linguistically diverse backgrounds.

(g) Establish and maintain effective communication and collaboration with other OSERS-funded projects, such as the OSEP Regional Resource Centers, the IDEA partnership projects, parent information centers, the Center on Personnel Studies in Special Education (COPSSE), the Center for Early Intervention/Early Childhood Special Education Personnel Preparation, the IRIS Center, and other technical assistance and research projects as appropriate.

(h) Conduct and participate in national and regional meetings including dissemination conferences, topical symposia and other meetings on recruitment and retention of qualified personnel as requested by OSEP.

(i) Contract with a third party evaluator to develop and conduct a comprehensive system for evaluating all aspects of the Center's work. The evaluation design must include both formative evaluation elements to identify strategies for improving the Center's work and summative evaluation elements with clearly measurable outcome and impact data.

(j) Submit for approval, prior to developing any new product, whether paper or electronic, a proposal describing the content and purpose of the product to the document review board of OSEP's Dissemination Center which OSEP expects to fund this year.

(k) Provide OSEP-specified technical assistance to States. This effort may include participation in: (1) Collaborative Web-based technical assistance activities, (2) coordination of and participation in State-to-State communities of practice, and (3) direct technical assistance to OSEP-specified States through partnerships between OSEP and selected States. Staff time and project resources dedicated to provide technical assistance to OSEP-specified States will be negotiated with OSEP as part of the cooperative agreement within 30 days of the project award (OSEP anticipates that technical assistance to OSEP-specified States could average approximately $40,000 per year. Budgets should be developed with this in mind).

Fourth and Fifth Years of Project

In deciding whether to continue this project for the fourth and fifth years, the Secretary will consider the requirements of 34 CFR 75.253(a), and in addition—

(a) The recommendation of a review team consisting of experts selected by the Secretary which review will be conducted during the last half of the project's second year in Washington, DC. Projects must budget for the travel associated with this one-day intensive review;

(b) The timeliness and effectiveness with which all requirements of the negotiated cooperative agreement have been or are being met by the Center; and

(c) Evidence of the degree to which the Center's activities have contributed to a changed practice and improved student outcomes.

Absolute Priority 4—Federal Resource Center for Special Education (84.326V)

Background

In 1984 the Office of Special Education Programs (OSEP) established the Federal Resource Center for Special Education (FRC) as a mechanism for ensuring the organized and consistent provision of high quality technical assistance by the OSEP-funded Regional Resource Centers (RRCs). The FRC was designed to coordinate the work of RRCs, identify emerging issues and trends in special education, and assist in linking State-identified needs with appropriate technical assistance providers.

Significant challenges are facing State and local educational agencies, such as: the need to meet the high standards established in the No Child Left Behind Act; a changing and more diverse population of children with disabilities; and persistent shortages in qualified and culturally competent personnel to serve these students. The FRC, through coordinating RRC technical assistance activities and initiatives, is designed to assist States to meet these challenges through strengthening their capacity to include all children with disabilities in high quality instruction that improves performance and prepares all children to leave school equipped for a meaningful life.

Priority

This priority provides support for a cooperative agreement for a coordinating technical assistance center, which shall be called the Federal Resource Center (FRC). The purpose of the FRC is to: (1) Serve as a special education technical assistance center to align the work of the six RRCs with OSEP policy and strategic initiatives; (2) enhance each RRC's capacity to promote systems change initiatives in States through the provision of strategic training and professional development; (3) increase the depth and utility of information in ongoing and emerging areas of priority needs as identified by RRCs and OSEP; (4) support the RRCs' efforts to provide ongoing technical assistance to enhance States' participation in OSEP's Continuous Improvement and Focused Monitoring System (CIFMS); (5) ensure that the RRCs operate in a non-duplicative and efficient manner; and (6) assist with the provision of technical assistance and support to the State Improvement Grant (SIG) program.

Specifically, the FRC project must:

(a) Support the RRCs' efforts to promote improved results for children with disabilities in States, especially those with performance challenges identified through the CIFMS, by providing strategic training, professional development, and technical support. This effort must include: (1) Coordination of communities of practice that target State performance improvement areas identified through the CIFMS; and (2) facilitation of RRCs' technical assistance initiatives including the development of State performance measurement systems that use accurate, valid, and reliable data for program improvement and data-based decisionmaking.

(b) Coordinate RRCs' information services functions to ensure the provision of timely, relevant, and accurate information as requested by States and other entities. The Center must: (1) Consolidate the information services function previously maintained by each RRC by establishing centralized information services; and (2) consolidate individual RRC Web sites into a centralized Web site that will ensure efficiency across the RRCs and avoid duplicative activities. This effort must include up to one year of planning and must be fully implemented within the next two years.

(c) Develop and maintain mechanisms that support coordinated and non-redundant development and delivery of technical assistance by RRCs within the OSEP-funded technical assistance network. This effort must involve: (1) Facilitating current RRC topical workgroups, such as the workgroup on monitoring, to ensure the RRCs develop consistent technical assistance approaches; (2) coordinating with OSEP's Dissemination Center, which OSEP plans to fund this year, on product development and dissemination; and (3) proactively helping RRCs identify potential areas for collaboration with the National Center for Special Education Accountability Monitoring and other technical assistance centers, to support State improvement initiatives.

(d) Maintain and enhance electronic linkages among RRCs. This must include the development, maintenance, and enhancement of listserves; the technical assistance information system (TAIS) of the RRCs; and other electronic mechanisms.

(e) Coordinate the RRCs' professional development, including planning and conducting meetings for training and coordination activities among RRCs.

(f) Provide technical assistance to the SIG program including: (1) Development and maintenance of a Web site; (2) development and maintenance of a listserve; (3) facilitation of information sharing among projects; (4) providing information, upon request, to individual projects; (5) coordination/support for the annual project directors' meeting; and (6) other assistance as determined by the Project Officer.

(g) Provide support for the Annual OSEP Leadership Conference, the Annual Technical Assistance and Dissemination (TA&D) Conference, and other OSEP activities such as task forces and panels.

(h) Promote improved results for children with disabilities by supporting the development of partnerships that link: (1) RRCs with parent organizations, especially the Parent Training and Information Centers (PTIs), the six Regional Parent Technical Assistance Centers, and the National Parent Technical Assistance Center, which OSEP plans to fund this year, in order to improve collaboration and coordination of effort between the RRCs and the PTIs; and (2) Department of Education and other government agency funded technical assistance and dissemination centers.

(i) Regularly inform OSEP staff of the progress of initiatives that involve multiple RRCs.

(j) Submit for approval to the Document Review Board of OSEP's Dissemination Center a proposal describing the content and purpose of any new paper or electronic product before developing the product.

(k) Support OSEP-specified national initiatives by developing models to be used by RRCs for: (1) Development or enhancement of State and/or local operated technical assistance and dissemination (TA&D) structures that support the dissemination of scientifically based research and best practices; (2) development or enhancement of Web-based technical assistance activities; (3) development or enhancement of systems change strategies; and (4) development or enhancement of State-to-State communities of practice.

Fourth and Fifth Years of Project

In deciding whether to continue this project for the fourth and fifth years, the Secretary will consider the requirements of 34 CFR 75.253(a), and in addition—

(a) The recommendation of a review team consisting of experts selected by the Secretary which review will be conducted during the last half of the project's second year in Washington, DC. Projects must budget for the travel associated with this one-day intensive review;

(b) The timeliness and effectiveness with which all requirements of the negotiated cooperative agreement have been or are being met by the Center; and

(c) Evidence of the degree to which the Center's activities have contributed to a changed practice and improved student outcomes.

Special Education—Technology and Media Services for Individuals With Disabilities [CFDA Number 84.327]

Purpose of Program: To: (1) Improve results for children with disabilities by promoting the development, demonstration, and use of technology; (2) support educational media activities designed to be of educational value to children with disabilities; and (3) provide support for some captioning, video description, and cultural activities.

Applicable Regulations: (a) The Education Department General Administrative Regulations (EDGAR) in 34 CFR parts 74, 75, 77, 79, 80, 81, 82, 85, 86, 97, 98, and 99; and (b) the selection criteria for this priority are chosen from the EDGAR general selection criteria in 34 CFR 75.210. The specific selection criteria for this competition are included in the application package for this competition.

Note: The regulations in 34 CFR part 79 apply to all applicants except federally recognized Indian tribes.

Note: The regulations in 34 CFR part 86 apply to IHEs only.

Eligible Applicants: State and local educational agencies; IHEs; other public agencies; nonprofit private organizations; outlying areas; Freely Associated States; Indian tribes or tribal organizations; and for-profit organizations.

Priority

Under 34 CFR 75.105(c)(3), we consider only applications that meet the following priority:

Absolute Priority—Research on Educational Captioning (84.327H)

This priority supports innovative research on the use of various approaches to captioning in specific settings such as educational, recreational, or home settings. Research must study the educational effects of captioning on enhancing the reading or literacy skills of deaf and hard of hearing children in kindergarten through grade 12.

Media and technologies explored or used by a project may include, but are not limited to (1) realtime captioning (remote or on-site); (2) voice writing; and (3) media and multi-media technologies such as interactive videodiscs, CD-ROMs, and DVDs.

Projects must—

(a) Identify specific approaches and settings that would be investigated;

(b) Carry out the research within a conceptual framework that provides a basis for the strategies to be studied, the research design, and target population;

(c) Conduct the research in realistic residential, inclusive schools, community, classroom, home, or other settings, as appropriate; and

(d) Conduct the research using methodological procedures that will produce unambiguous findings regarding the effects of approaches and effects of the interaction among particular approaches, groups of children, and settings.

Special Education—Training and Information for Parents of Children With Disabilities [CFDA Number 84.328]

Purpose of Program: The purpose of this program is to ensure that parents of children with disabilities receive training and information to help improve results for their children.

Eligible Applicants: Parent organizations, as defined in section 682(g) of IDEA. In order to demonstrate its eligibility to receive a grant, an entity must demonstrate that it is a parent organization under this section. A parent organization is a private nonprofit organization (other than an institution of higher education) that:

(a) Has a board of directors, the parent and professional members of which are broadly representative of the population to be served and the majority of whom are parents of children with disabilities, that includes individuals with disabilities and individuals working in the fields of special education, related services, and early intervention; or

(b) Has a membership that represents the interests of individuals with disabilities and has established a special governing committee meeting the requirements for a board of directors in paragraph (a) and has a memorandum of understanding between this special governing committee and the board of directors of the organization that clearly outlines the relationship between the board and the committee and the decisionmaking responsibilities and authority of each.

In addition, any parent organization that establishes a special governing committee must demonstrate that the bylaws of its organization allow the governing committee to be responsible for operating the project (consistent with existing fiscal policies of its organization).

Applicable Regulations: (a) The Education Department General Administrative Regulations (EDGAR) in 34 CFR parts 74, 75, 77, 79, 80, 81, 82, 85, 97, 98, and 99; and (b) The selection criteria, chosen from the EDGAR general selection criteria in 34 CFR 75.210. The specific selection criteria for this competition are included in the application package for this competition.

Priority

Under 34 CFR 75.105(c)(3), we consider only applications that meet the following priority:

Absolute Priority—Parent Training and Information Center for Texas—Region 2 (84.328M)

Background

In Fiscal Year 2002, a competition was held for Parent Training and Information Centers that included awards for Texas. All of the awards made for Texas were made for a period of five years except for the award to serve Region 2 of the State. Because of the quality of applications to serve this region, an award was made for only one year. This priority provides for a competition to continue services in Region 2 for an additional 4 years.

Priority

The purpose of this priority is to support a Parent Training and Information Center in Texas—Region 2. A Parent Training and Information Center must—

(a) Provide training and information that meets the training and information needs of parents of children with disabilities in the area served by the Center, particularly underserved parents and parents of children who may be inappropriately identified, including those who are not identified at all;

(b) Assist parents to understand the availability of, and how to effectively use, procedural safeguards under IDEA, including encouraging the use, and explaining the benefits, of alternative methods of dispute resolution, such as the mediation process described in IDEA;

(c) Serve the parents of infants, toddlers, and children with the full range of disabilities;

(d) Assist parents to—

(1) Better understand the nature of their children's disabilities and their educational and developmental needs;

(2) Communicate effectively with personnel responsible for providing special education, early intervention, and related services;

(3) Participate in decisionmaking processes and the development of individualized education programs and individualized family service plans;

(4) Obtain appropriate information about the range of options, programs, services, and resources available to assist children with disabilities and their families;

(5) Understand the provisions of IDEA for the education of, and the provision of early intervention services to, children with disabilities; and

(6) Participate in school reform activities;

(e) Contract with the State educational agency, if the State elects to contract with the Parent Training and Information Center, for the purpose of meeting with parents who choose not to use the mediation process to encourage the use, and explain the benefits, of mediation consistent with section 615(e)(2)(B) and (D) of IDEA;

(f) Establish cooperative relations with the Community Parent Resource Center or Centers in their State in accordance with section 683(b)(3) of IDEA;

(g) Network with appropriate clearinghouses, including organizations conducting national dissemination activities under section 685(d) of IDEA, and with other national, State, and local organizations and agencies, such as protection and advocacy agencies, that serve parents and families of children with the full range of disabilities;

(h) Annually report to the Assistant Secretary on—

(1) The number of parents to whom the Parent Training and Information Center provided information and training in the most recently concluded fiscal year, and

(2) The effectiveness of strategies used to reach and serve parents, including underserved parents of children with disabilities; and

(i) If there is more than one parent center in a particular State, coordinate its activities with the other center or centers to ensure the most effective assistance to parents in that State.

An applicant must identify the strategies it will undertake—

(a) To ensure that the needs for training and information for underserved parents of children with disabilities in the areas to be served are effectively met, particularly in underserved areas of the State; and

(b) To work with the community-based organizations, particularly in the underserved areas of the State.

A Parent Training and Information Center that receives assistance under this absolute priority may also conduct the following activities—

(a) Provide information to teachers and other professionals who provide special education and related services to children with disabilities;

(b) Assist students with disabilities to understand their rights and responsibilities on reaching the age of majority, as stated in section 615(m) of IDEA; and

(c) Assist parents of children with disabilities to be informed participants in the development and implementation of the State improvement plan under IDEA.

In addition to the annual Project Directors' meeting included in the “General Requirements” section of this notice, a project's budget must include funds to attend a regional Project Directors' meeting to be held each year of the project.

Current funding levels and number of school age children were factors in determining the funding level for this grant. OSEP identifies the Regions in Texas by using the educational services breakdown operational within the State. Applications for this award will be accepted to fund one parent center in Region 2 only. Region 2 includes the following counties: Aransas, Atascosa, Bandera, Bee, Boxer, Brezoria, Brooke, Calhoun, Cameron, Chambers, Colorado, Dewitt, Dimmit, Duval, Fort Bond, Frio, Galveston, Gollad, Harris, Hidalgo, Jackson, Jim Hogg, Jim Wells, Karnes, Kenedy, Kerr, Kinney, Kisberg, La Salle, Lavaca, Liberty, Live Oak, Malagorda, Maverik, McMullen, Medina, Nueces, Real, Refugio, San Patricio, Staarr, Uvalde, Victoria, Waller, Webb, Wharton, Wilson, Willsoy, Zapata, and Zavala.

Individuals With Disabilities Education Act Application Notice for Fiscal Year 2003
CFDA number and name | Applications available | Application deadline date | Deadline for intergovernmental review | Estimated available funds | Maximum award (per year) * | Project period | Page limit | Estimated number of awards
84.326A The IDEA Partnership Project | 07/21/03 | 08/20/03 | 09/19/03 | $2,000,000 | $2,000,000 | Up to 60 mos | 70 | 1
84.326D National Center on Dispute Resolution | 07/21/03 | 08/20/03 | 09/19/03 | 500,000 | 500,000 | Up to 60 mos | 70 | 1
84.326P The National Coordination and Dissemination Center to Improve Strategies for the Recruitment and Retention of Qualified Personnel for Children with Disabilities | 07/21/03 | 08/20/03 | 09/19/03 | 500,000 | 500,000 | Up to 60 mos | 70 | 1
84.326V Federal Resource Center for Special Education | 07/21/03 | 08/20/03 | 09/19/03 | 800,000 | 800,000 | Up to 60 mos | 70 | 1
84.327H Research on Educational Captioning | 07/21/03 | 08/20/03 | 09/19/03 | 360,000 | 180,000 | Up to 36 mos | 50 | 2
84.328M Parent Training and Information Center for Texas—Region 2 | 07/21/03 | 08/20/03 | 09/19/03 | 432,085 | 432,085 | Up to 48 mos | 50 | 1
* We will reject any application that proposes a budget exceeding the maximum award for a single budget period of 12 months.
Note: The Department of Education is not bound by any estimates in this notice.

For Applications Contact: If you want an application for any competition in this notice, contact Education Publications Center (ED Pubs), P.O. Box 1398, Jessup, Maryland 20794-1398. Telephone (toll free): 1-877-4ED-Pubs (1-877-433-7827). FAX: 301-470-1244. Individuals who use a telecommunications device for the deaf (TDD) may call (toll free) 1-877-576-7734.

You may also contact Ed Pubs via its Web site: http://www.ed.gov/pubs/edpubs.html or you may contact ED Pubs at its e-mail address: edpubs@inet.ed.gov.

If you request an application from ED Pubs, be sure to identify the competition by the appropriate CFDA number.

FOR FURTHER INFORMATION CONTACT: If you want an additional information about any competition in this notice, contact the Grants and Contracts Services Team, U.S. Department of Education, 400 Maryland Avenue, SW., room 3317, Switzer Building, Washington, DC 20202-2550. Telephone: (202) 205-8207.

If you use a telecommunications device for the deaf (TDD), you may call the Federal Information Relay Service (FIRS) at 1-800-877-8339.

Individuals with disabilities may obtain this document in an alternative format (e.g., Braille, large print, audiotape, or computer diskette) on request to the Grants and Contracts Services Team under FOR FURTHER INFORMATION CONTACT. However, the Department is not able to reproduce in an alternative format the standard forms included in the application package.

Intergovernmental Review

All programs in this notice (except for the Research and Innovation to Improve Services and Results for Children with Disabilities Program) are subject to the requirements of Executive Order 12372 and the regulations in 34 CFR part 79. One of the objectives of the Executive Order is to foster an intergovernmental partnership and a strengthened federalism. The Executive order relies on processes developed by State and local governments for coordination and review of proposed Federal financial assistance. This document provides early notification of our specific plans and actions for these programs.

Electronic Access to This Document

You may view this document, as well as all other Department of Education documents published in the Federal Register, in text or Adobe Portable Document Format (PDF) on the internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo/nara/index.html.

Program Authority: 20 U.S.C. 1405, 1461, 1485, and 1487.

Dated: July 16, 2003.
Robert H. Pasternack,
Assistant Secretary for Special Education and Rehabilitative Services.

[FR Doc. 03-18485 Filed 7-18-03; 8:45 am]

BILLING CODE 4000-01-P